COMMITTEE FOR PURCHASE FROM PEOPLE WHO ARE BLIND OR SEVERELY DISABLED

Agency Information Collection Activities; Submission for OMB Review; Comment Request

AGENCY: Committee for Purchase From People Who Are Blind or Severely Disabled.

ACTION: Proposed collection; comment request.

Title: Nonprofit Agency Responsibilities, 3037-0005.

SUMMARY: The Committee for Purchase From People Who Are Blind or Severely Disabled has submitted an Information Collection Request to the Office of Management and Budget (OMB) for review and clearance under the provisions of the Paperwork Reduction Act of 1995 (44 U.S.C. 3501-3520). This notice solicits comments on requirement relating to the record keeping requirements of nonprofit agencies serving people who are blind or severely disabled.

DATES: Submit comments on or before December 30, 2002.

ADDRESSES: Written comments should be addressed to the Office of Information and Regulatory Affairs, Attention: Karen F. Lee, Desk Officer, Office of Management and Budget, 725 17th Street, NW., Room 10202, New Executive Office Building, Washington, DC 20503 or be electronically e-mailed to Karen_F._Lee@omb.eop.gov. Requests for copies of documents pertaining to the collection should be addressed to Committee for Purchase From People Who Are Blind or Severely Disabled, Attention: Janet Yandik, Information Management Specialist, Jefferson Plaza 2, Suite 10800, 1421 Jefferson Davis Highway, Arlington, VA 22202-3259 or e-mailed to jyandik@jwod.gov.

SUPPLEMENTARY INFORMATION: The Committee imposes certain requirements on nonprofit agencies that participate in the Javits-Wagner-O'Day (JWOD) Program. The requirements being proposed are recordkeeping for specific product families and services sold under the JWOD Act. This is a change in current requirements that only require records be kept and reported in the aggregate, rather than by specific JWOD product family or service. If approved, recordkeeping shall reflect dollar sales of each product and service sold under the authority of JWOD Act, direct labor hours performed by all workers on each product and service sold under the JWOD Act, and files which document the disability and competitive employability of each worker counted toward the nonprofit agencies' ratio of disabled direct labor. Such records and files are required to ensure the effective administration of the JWOD Program and to ensure that nonprofit agencies seeking to participate in the Committee's program meet the requirements of 41 U.S.C. 46-48(c).

G. John Heyer,
General Counsel.

[FR Doc. 02-30310 Filed 11-27-02; 8:45 am]

BILLING CODE 6353-01-P